DEPARTMENT OF TRANSPORTATION

National Highway Traffic Safety Administration

[Docket No. NHTSA-2019-0041; Notice 1]

FCA US LLC, Receipt of Petition for Decision of Inconsequential Noncompliance

AGENCY: National Highway Traffic Safety Administration (NHTSA), Department of Transportation (DOT).

ACTION: Receipt of petition.

SUMMARY: FCA US LLC (f/k/a Chrysler Group LLC) (“FCA US”), has determined that certain MY 2014-2019 Fiat 500 motor vehicles do not comply with Federal Motor Vehicle Safety Standard (FMVSS) No. 138, Tire Pressure Monitoring Systems. FCA US filed a noncompliance report dated April 11, 2019 and subsequently petitioned NHTSA on May 3, 2019, for a decision that the subject noncompliance is inconsequential as it relates to motor vehicle safety. This document announces receipt of FCA US's petition.

DATES: Send comments on or before October 15, 2019.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, a notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000, (65 FR 19477-78).

SUPPLEMENTARY INFORMATION:

I. Overview: FCA US has determined that certain MY 2014-2019 Fiat 500 motor vehicles do not comply with paragraph S4.2(a) of FMVSS No. 138, Tire Pressure Monitoring Systems (49 CFR 571.138). FCA US filed a noncompliance report dated April 11, 2019, pursuant to 49 CFR 573, Defect and Noncompliance Responsibility and Reports, and subsequently petitioned NHTSA on May 3, 2019, for an exemption from the notification and remedy requirements of 49 U.S.C. Chapter 301 on the basis that this noncompliance is inconsequential as it relates to motor vehicle safety, pursuant to 40 U.S.C. 30118 and 49 U.S.C. 30120, Exemption for Inconsequential Defect or Noncompliance.

This notice of receipt of FCA US's petition is published under 49 U.S.C. 30118 and 30120 and does not represent any agency decision or other exercise of judgment concerning the merits of the petition.

II. Vehicles Involved: Approximately 12,675 MY 2014-2019 Fiat 500 motor vehicles, manufactured between July 27, 2013, and February 9, 2019, are potentially involved.

III. Noncompliance: FCA US explains that the noncompliance is that the subject vehicles are equipped with incorrectly programmed tire pressure monitor system (TPMS) sensors that do not meet the minimum activation pressure requirements of paragraph S4.2(a) of FMVSS No. 138. Specifically, the TPMS sensors may not illuminate the low tire pressure warning telltale until the inflation pressure is one to two pounds per square inch (PSI) below the minimum allowable activation pressure.

IV. Rule Requirements: Paragraph S4.2(a) of FMVSS No. 138 provides the requirements relevant to this petition. The TPMS must illuminate a low tire pressure warning telltale not more than 20 minutes after the inflation pressure in one or more of the vehicle's tires, up to a total of four tires, is equal to or less than either the pressure 25 percent below the vehicle manufacturer's recommended cold inflation pressure, or the pressure specified in the 3rd column of Table 1 of FMVSS No. 138 for the corresponding sort of tire, whichever is higher.

V. Summary of Petition: FCA US described the subject noncompliance and stated its belief that the noncompliance is inconsequential as it relates to motor vehicle safety.

In support of its petition, FCA US submitted the following reasoning:

1. The affected Fiat 500 vehicles meet FMVSS No. 110. The vehicle maximum load on the tire is not to be greater than the applicable maximum load rating as marked on the sidewall of the tire.

2. The affected Fiat 500 vehicles are equipped with tires that meet FMVSS No. 139:

a. Tire manufacturers are required to certify the tires meet all applicable requirements of FMVSS No. 139.

b. FMVSS No. 139 specifies a low inflation pressure performance test in which the tire is loaded to its maximum tire load capacity and inflated to only 140 kPa (20 PSI), significantly less than the TPMS telltale activation pressure for the subject Fiat 500 vehicles. In order to pass this test, the tires are loaded to 100% of the tire's maximum load carrying capacity and then run on a test axle for 1.5 hours at 20 PSI.

3. Although the TPMS warning telltale may not illuminate until the tire pressure drops to the point where a noncompliance exists (28-27 PSI) on the affected Fiat 500 vehicles, which is significantly above the 20 PSI requirement called and tested to in FMVSS No. 139, FCA US believes that the warning provided will give drivers sufficient time to check and inflate tires well before the tires would be susceptible to appreciable damage and that the described noncompliance is inconsequential to motor vehicle safety.

4. FCA US is not aware of any crashes, injuries, or customer complaints associated with the condition.

5. FCA US says that NHTSA has previously granted inconsequential treatment for a similar FMVSS No. 138 noncompliance to the American Honda Motor Company (77 FR 43145, July 23, 2012).

6. FCA US believes that the foregoing information establishes that the noncompliance is inconsequential to safety and that the operator can safely use their vehicle in the noncompliant condition.

7. Tire pressure sensor values in unsold vehicles are being updated to reflect the correct pressure values.

FCA US concluded that the subject noncompliance is inconsequential as it relates to motor vehicle safety and that its petition to be exempted from providing notification of the noncompliance, as required by 49 U.S.C. 30118, and a remedy for the noncompliance, as required by 49 U.S.C. 30120, should be granted.

The FCA US complete petition and all supporting documents are available by logging onto the Federal Docket Management System (FDMS) website at https://www.regulations.gov/. and following the online search instructions to locate the docket number listed in the title of this notice.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject vehicles that FCA US no longer controlled at the time it determined that the noncompliance existed. However, any decision on this petition does not relieve equipment distributors and dealers of the prohibitions on the sale, offer for sale, or introduction or delivery for introduction into interstate commerce of the noncompliant vehicles under their control after FCA US notified them that the subject noncompliance existed.

Authority: (49 U.S.C. 30118, 30120: delegations of authority at 49 CFR 1.95 and 501.8)

Otto G. Matheke III,
Director, Office of Vehicle Safety Compliance.

[FR Doc. 2019-19723 Filed 9-11-19; 8:45 am]

BILLING CODE 4910-59-P